DEPARTMENT OF COMMERCE

National Oceanic and Atmospheric Administration

[I.D. 041807C]

Caribbean Fishery Management Council; Public Meeting

AGENCY: National Marine Fisheries Service (NMFS), National Oceanic and Atmospheric Administration (NOAA), Commerce.

ACTION: Notice of a public meeting.

SUMMARY: The Caribbean Fishery Management Council (CFMC) will hold a conference call to vote on a motion on the establishing of the Council Coordination Committee.

DATES: The conference call will be held on May 4, 2007, from 2 p.m. to 3 p.m. EST.

ADDRESSES: The meeting will be held via conference call. For specific locations of listening stations, see SUPPLEMENTARY INFORMATION.

FOR FURTHER INFORMATION CONTACT: Diana Martino, Assistant to the Executive Director, Caribbean Fishery Management Council, 268 Munoz Rivera Avenue, Suite 1108, San Juan, Puerto Rico 00918-1920, telephone: (787) 766-5926.

SUPPLEMENTARY INFORMATION: Listening stations will be located the following locations:

1. Caribbean Fishery Management Council, 268 Munoz Rivera Avenue, Suite 1108, San Juan, Puerto Rico 00918; telephone: (787) 766-5926;

2. U.S. Virgin Islands Division of Fish and Wildlife, 6291 Estate Nazareth, St. Thomas, USVI 00802; telephone: (340) 775-6762; and

3. U.S. Virgin Islands Division of Fish and Wildlife, Rainbow Plaza, 45 Marshall, Frederiksted, St. Croix, USVI 00840; telephone: (340) 773-3450.

The conference call will begin at 2 p.m. EST and conclude no later than 3 p.m. EST. Magnuson-Stevens Reauthorization Act (MSRA) includes language authorizing the establishment of a Council Coordination Committee (CCC) consisting of the chairs, vice chairs, and executive directors of each of the 8 Councils, or other council members or staff, in order to discuss issues of relevance to all Councils, including issues related to the implementation of the MSRA. This action will allow the CFMC to implement the MSRA requirement.

Although non-emergency issues not on the agenda may come before the group for discussion, in accordance with the MSRA, those issues may not be the subject of formal action during this meeting. Action will be restricted to those issues specifically identified in this notice and any issues arising after publication of this notice that require emergency action under section 305(c) of the Magnuson-Stevens Fishery Conservation and Management Act, provided the public has been notified of the Council's intent to take final action to address the emergency.

Special Accommodations

The meeting is physically accessible to people with disabilities. Requests for sign language interpretation and/other auxiliary aids should be directed to Mr. Miguel A. Rolon, Executive Director, Caribbean Fishery Management Council (see FOR FURTHER INFORMATION CONTACT) at least 5 working days prior to the meeting.

Dated: April 18, 2007.
Tracey L. Thompson,
Acting Director, Office of Sustainable Fisheries, National Marine Fisheries Service.

[FR Doc. E7-7675 Filed 4-20-07; 8:45 am]

BILLING CODE 3510-22-S